DEPARTMENT OF STATE

[Delegation of Authority 332]

Delegation From the Secretary of Certain Certification Functions in Maritime Law Enforcement to the Assistant Secretary for International Narcotics and Law Enforcement Affairs

By virtue of the authority vested in the Secretary of State, including the authority of section 1 of the State Department Basic Authorities Act, as amended (22 U.S.C. 2651a), I hereby delegate to the Assistant Secretary for International Narcotics and Law Enforcement Affairs, the certification authorities under 46 U.S.C. 70502(c)(2) & (d)(2), and 18 U.S.C. 2237(d) .

Notwithstanding this delegation of authority, the Secretary, the Deputy Secretary, or the Deputy Secretary for Management and Resources may exercise any function or authority covered by this delegation.

As used in this delegation of authority, the word “function” includes any duty, obligation, power, authority, responsibility, right, privilege, discretion, or activity. Any reference in this delegation of authority to any act, order, determination, delegation of authority, regulation, or procedure shall be deemed to be a reference to such act, order, determination, delegation of authority, regulation, or procedure as amended from time to time.

Delegation of Authority Number 316 of September 2, 2008, is hereby superseded.

This Delegation of Authority shall be published in the Federal Register.

Dated: August 6, 2010.
Hillary Rodham Clinton,
Secretary of State.

[FR Doc. 2010-21855 Filed 8-31-10; 8:45 am]

BILLING CODE 4710-17-P